DEPARTMENT OF COMMERCE

National Oceanic and Atmospheric Administration

[RTID 0648-XE745]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council including a joint session with the Atlantic States Marine Fisheries Commission (ASMFC) Policy Board.

DATES: The meetings will be held Tuesday, April 8 through Thursday, April 10, 2025. For agenda details, see SUPPLEMENTARY INFORMATION.

ADDRESSES: This meeting will be an in-person meeting with a virtual option. Council members, other meeting participants, and members of the public will have the option to participate in person at the Seaview Dolce Hotel (401 South New York Road, Galloway, NJ 08205) or virtually via Webex webinar. Webinar connection instructions and briefing materials will be available at: https://www.mafmc.org/briefing/april-2025.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Tuesday, April 8, 2025

2025 Mid-Atlantic State of the Ecosystem Report—Dr. Sarah Gaichas, NEFSC

Review report and provide feedback

2025 Ecosystem Approach to Fisheries Management (EAFM) Risk Assessment Report

Review report and provide feedback

Essential Fish Habitat (EFH) 5-Year Review

Review and approve report

Wednesday, April 9, 2025

Council Convenes With Atlantic States Marine Fisheries Commission (ASMFC) Policy Board

Recreational Measures Setting Process Framework/Addenda

Review public comments

Review FMAT/PDT recommendations

Review Advisory Panel input

Consider final action

LUNCH

Recreational Sector Separation and Data Collection Amendment

Review scoping comments

Review FMAT/PDT and Advisory Panel input

Discuss scope of action and next steps

ASMFC Policy Board Adjourns

Gear Making/On-Demand Gear Framework

Review the purpose of the framework

Provide guidance on draft alternatives

Council Awards Presentation

Presentation of the 2024 Ricks E. Savage Award and the 2025 James A. Ruhle Cooperative Research Award

Thursday, April 10, 2025

Business Session

Committee Reports (SSC); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: March 11, 2025.
Rey Israel Marquez,
Acting Deputy Director, Office of Sustainable Fisheries, National Marine Fisheries Service.

[FR Doc. 2025-04118 Filed 3-13-25; 8:45 am]

BILLING CODE 3510-22-P